DEPARTMENT OF ENERGY

Federal Energy Regulatory Commission

[Docket No. RP00-332-008]

ANR Pipeline Company; Notice of Compliance Filing

March 4, 2004.

Take notice that on March 2, 2004, ANR Pipeline Company (ANR) tendered for filing as part of in FERC Gas Tariff, Second Revised Volume No. 1, the following tariff sheets, with an effective date of October 1, 2003:

Fifth Revised Sheet 108A

Second Revised Sheet 108B

Fourth Revised Sheet No. 108C

Fifth Revised Sheet No. 160

Fifth Revised Sheet No. 160A

ANR states that it is tendering the revised tariff sheets to incorporate changes that were inadvertently left out of ANR's 637 proceeding. In particular, ANR states that it is adding sheets to incorporate additional nomination opportunities as agreed to in ANR's 637 settlement.

Any person desiring to protest said filing should file a protest with the Federal Energy Regulatory Commission, 888 First Street, NE., Washington, DC 20426, in accordance with Section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-516 Filed 3-10-04; 8:45 am]

BILLING CODE 6717-01-P